Proclamation 10770 of May 31, 2024

National Ocean Month, 2024

By the President of the United States of America

A Proclamation

This National Ocean Month, we celebrate the wonder and power of our magnificent ocean and recommit to protecting and conserving it for generations to come. The ocean powers millions of jobs; feeds and sustains us; and is a rejuvenating source of inspiration, exploration, and recreation. Its rich ecosystems of marine animals, plants, and other species have been stewarded by Tribal Nations and Indigenous communities since time immemorial. And protecting and caring for the ocean is critical to tackling the existential threat of our time: climate change.

Today, the ocean is facing unprecedented threats. Record-breaking ocean temperatures, together with pollution and ocean acidification, have forced marine life from their historic habitats, damaging ecosystems and straining communities who rely on the ocean for sustenance and work. Rising sea levels and warmer ocean waters have also endangered food supply chains and contributed to increasingly dangerous storms, which devastate coastal communities.

That is why my Administration is taking aggressive action to deliver the most ambitious climate agenda in history. We launched the Nation's first Ocean Climate Action Plan, a bold and coordinated effort to address the climate crisis. We are protecting and restoring key coastal habitats, such as marshes, mangroves, seagrass beds, coral reefs, and more, helping protect communities on land, reduce the impact of natural disasters along our shores, and protect biodiversity.

With historic investments from my Inflation Reduction Act and Bipartisan Infrastructure Law, we are expanding offshore wind projects so that we have enough capacity to power 10 million homes by 2030 while creating good-paying jobs. Meanwhile, as we launch tens of thousands of projects to modernize our Nation's infrastructure, we are working to lower the carbon footprint of cargo ships, build cleaner supply chains, and reduce pollution. We are cracking down on illegal fishing and strengthening sustainable fisheries so that we protect hardworking Americans who rely on our ocean to make a living.

My Administration has also been working tirelessly to fulfill our goal of protecting and conserving at least 30 percent of America's lands and waters, including our ocean. To that end, I took executive action to consider designating more than 700,000 square miles of the Pacific Ocean southwest of Hawaii as a new National Marine Sanctuary—which could make this one of the largest marine protected areas on the planet. If the sanctuary is completed, it would conserve significant natural and cultural resources and honor the traditional practices and ancestral pathways of Pacific Island voyagers. My Administration is also carefully evaluating the potential Chumash Heritage National Marine Sanctuary, the first Indigenous-led nomination for a National Marine Sanctuary. Through the first-ever United States Ocean Justice Strategy and my Investing in America agenda, we are bringing environmental justice to communities that have suffered the consequences of climate change and pollution for too long—including millions of dollars in investments for ocean debris prevention and removal through my Bipartisan Infrastructure Law and funding for communities to restore their coasts through my Inflation Reduction Act.

This National Ocean Month, let us remember our responsibility to our environment and recommit to conserving, protecting, and restoring the bounty and beauty of our ocean.

NOW, THEREFORE, I, JOSEPH R. BIDEN JR., President of the United States of America, by virtue of the authority vested in me by the Constitution and the laws of the United States, do hereby proclaim June 2024 as National Ocean Month. I call upon Americans to take action to protect, conserve, and restore our ocean and coasts.

IN WITNESS WHEREOF, I have hereunto set my hand this thirty-first day of May, in the year of our Lord two thousand twenty-four, and of the Independence of the United States of America the two hundred and forty-eighth.

[FR Doc. 2024-12494

Filed 6-4-24; 11:15 am]

Billing code 3395-F4-P